DEPARTMENT OF JUSTICE

Antitrust Division

Notice Pursuant to the National Cooperative Research and Production Act of 1993—Cooperative Research Group on Mechanical Stratigraphy and Natural Deformation in the Permian Strata of Texas and New Mexico: Implications for Exploitation of the Permian Basin—Phase 2

Notice is hereby given that, on August 15, 2019, pursuant to Section 6(a) of the National Cooperative Research and Production Act of 1993, 15 U.S.C. 4301 et seq. (“the Act”), Southwest Research Institute—Cooperative Research Group on Mechanical Stratigraphy and Natural Deformation in the Permian Strata of Texas and New Mexico: Implications for Exploitation of the Permian Basin—Phase 2 (“Permian Basin—Phase 2”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Noble Energy, Houston, TX; and Chevron U.S.A. Inc., Midland, TX. The general area of Permian Basin—Phase 2's planned activity will involve building on research conducted in Phase 1 of the Consortium, continued analysis of deformation and mechanical stratigraphy in Permian strata exposed in and around the Permian Basin of Texas and New Mexico. Planned activity involves intensive data collection and quantitative analysis of systematic fracture networks and associated deformation related to lithostratigraphy and mechanical stratigraphy. This work will develop datasets based on outcrop and core, that can be used to inform predictive models of fracturing in the Permian Basin. Subsurface investigations include numerical geomechanical modeling of deformation related to tectonic activity and hydraulic fracturing within productive and potentially productive portions of the Permian Basin.

Suzanne Morris,
Chief, Premerger and Division Statistics Unit, Antitrust Division.

[FR Doc. 2019-19840 Filed 9-12-19; 8:45 am]

BILLING CODE 4410-11-P